FEDERAL TRADE COMMISSION

16 CFR Part 464

Trade Regulation Rule on Unfair or Deceptive Fees

AGENCY: Federal Trade Commission

ACTION: Notice of proposed rulemaking; extension of comment period.

SUMMARY: The Federal Trade Commission (“FTC” or “Commission”) is extending the deadline for filing comments on its notice of proposed rulemaking (“NPRM”) concerning its trade regulation rule entitled the “Rule on Unfair or Deceptive Fees.”

DATES: For the NPRM published November 9, 2023 (88 FR 77420), the comment deadline is extended from January 8, 2024, to February 7, 2024.

ADDRESSES: Interested parties may file a comment online or on paper by following the instructions in the SUPPLEMENTARY INFORMATION section of the NPRM published at 88 FR 77420. Write “Unfair or Deceptive Fees NPRM, R207011” on your comment and file your comment online at https://www.regulations.gov. If you prefer to file your comment on paper, please mail your comment to: Federal Trade Commission, Office of the Secretary, 600 Pennsylvania Avenue NW, Mail Stop H-144 (Annex J), Washington, DC 20580.

FOR FURTHER INFORMATION CONTACT: Janice Kopec or Stacy Cammarano, Division of Advertising Practices, Bureau of Consumer Protection, Federal Trade Commission, 202-326-2550 (Kopec), 202-326-3308 (Cammarano), jkopec@ftc.gov, scammarano@ftc.gov.

SUPPLEMENTARY INFORMATION:

I. Comment Period Extension

On November 9, 2023 (88 FR 77420), the Commission published in the Federal Register an NPRM with a January 8, 2024, deadline for filing comments. The Commission published the NPRM to solicit comments about the proposed Rule on Unfair or Deceptive Fees and, specifically, on the questions set forth in Section X of the NPRM.

Interested parties have subsequently requested an extension of the public comment period to give them additional time to respond to the NPRM's request for comment. While the original comment period affords the public a meaningful opportunity to provide the Commission with comments regarding its rulemaking proposal, the Commission will extend the period for public comment on its NPRM an additional 30 days to February 7, 2024.

II. Request for Comment

The Federal Trade Commission (“FTC” or “Commission”) invites interested parties to submit data, views, and arguments on the proposed Rule on Unfair or Deceptive Fees and, specifically, on the questions set forth in Section X of the NPRM. The comment period will remain open until February 7, 2024.¹ To the extent practicable, all comments will be available on the public record and posted at the docket for this rulemaking at https://www.regulations.gov/docket/FTC-2023-0064. For additional detail regarding comment submission, see the information in the NPRM published at 88 FR 77420.

¹ The Commission elects not to provide a separate, second comment period for rebuttal comments. See 16 CFR 1.11(e) (“The Commission may in its discretion provide for a separate rebuttal period following the comment period.”).

By direction of the Commission.
Joel Christie,
Acting Secretary.

[FR Doc. 2023-28669 Filed 12-29-23; 8:45 am]

BILLING CODE 6750-01-P